DEPARTMENT OF COMMERCE

National Oceanic and Atmospheric Administration

[RTID 0648-XA878]

Marine Mammals; File No. 24365

AGENCY: National Marine Fisheries Service (NMFS), National Oceanic and Atmospheric Administration (NOAA), Commerce.

ACTION: Notice; receipt of application.

SUMMARY: Notice is hereby given that Paul Ponganis, Ph.D., University of California San Diego, La Jolla, CA 92093-0204, has applied in due form for a permit to conduct research on California sea lions (Zalophus californianus).

DATES: Written, telefaxed, or email comments must be received on or before March 29, 2021.

ADDRESSES: The application and related documents are available for review by selecting “Records Open for Public Comment” from the “Features” box on the Applications and Permits for Protected Species (APPS) home page, https://apps.nmfs.noaa.gov, and then selecting File No. 24365 from the list of available applications. These documents are also available upon written request via email to NMFS.Pr1Comments@noaa.gov.

Written comments on this application should be submitted via email to NMFS.Pr1Comments@noaa.gov. Please include File No. 24365 in the subject line of the email comment.

Those individuals requesting a public hearing should submit a written request via email to NMFS.Pr1Comments@noaa.gov. The request should set forth the specific reasons why a hearing on this application would be appropriate.

FOR FURTHER INFORMATION CONTACT: Sara Young or Dr. Shasta McClenahan, (301) 427-8401.

SUPPLEMENTARY INFORMATION: The subject permit is requested under the authority of the Marine Mammal Protection Act of 1972, as amended (MMPA; 16 U.S.C. 1361 et seq.) and the regulations governing the taking and importing of marine mammals (50 CFR part 216).

The purpose of this research is to determine the role of physiological responses, oxygen store depletion, and eventual anaerobic metabolism in dive behavior and foraging ecology of California sea lions. On an annual basis, up to 15 adult females will be captured and instrumented to measure physiological responses (heart rate, stroke rate, oxygen depletion, temperature, inspired lung volumes and lactate accumulation) during dives. Two unintentional mortalities are requested annually. Up to 15 pups of the adult females used in the research, may also be marked with a neoprene patch. Take activities for adult animals include: Capture, restraint, anesthesia, internal and external instrumentation, blood sampling, flipper tagging, clipping vibrissae, and weighing, as well as necropsy and salvage of parts from any unintentional mortalities. Research will be conducted on San Nicolas Island, California. Re-captures for instrument removal will occur on San Nicolas Island. Takes of other species annually may include temporary disturbance of 100 harbor seals (Phoca vitulina), 200 northern elephant seals (Mirounga angustirostris), 4,000 California sea lions (Zalophus californianus), and 30 northern fur seals (Callorhinus ursinus) during captures. The permit would be valid for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 22, 2021.
Amy Sloan,
Acting Chief, Permits and Conservation Division, Office of Protected Resources, National Marine Fisheries Service.

[FR Doc. 2021-03980 Filed 2-25-21; 8:45 am]

BILLING CODE 3510-22-P